ENVIRONMENTAL PROTECTION AGENCY

[ER-FRL-6629-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated April 12, 2002 (67 FR 17992).

Draft EISs

ERP No. D-AFS-K65238-CA Rating EC2, Star Fire Restoration Removal of Fire-Killed Trees, Road Reconstruction, and Associated Restoration, Eldorado National Forests (ENF) Georgetown Ranger District, Middle Fork American River, Chipmunk Ridge and the North Fork of Long Canyon, Placer County, CA.

Summary: EPA expressed environmental concerns about impacts to riparian areas, water quality and wildlife habitat. The final EIS should expand the discussion on cumulative impacts, impacts from reasonably foreseeable actions and potential use of pesticides and herbicides.

ERP No. D-AFS-K65394-CA Rating EO2, Los Padres National Forest Oil and Gas Leasing Management, Implementation, Kern, Los Angeles, Monterey, Santa Barbara and San Luis Obispo Counties, CA.

Summary: EPA expressed environmental objections based on severe air quality impacts projected during maximum development activity. EPA noted that Standard Lease Terms-only, proposed under both of the Preferred Alternatives may not adequately protect natural resources. EPA recommends additional lease stipulations to reduce air emissions.

ERP No. D-AFS-L67037-00 Rating EC2, Programmatic—Siskiyou National Forest Suction Dredging Activities, Operating Plan Terms and Conditions Approval, Coos, Curry and Josephine Counties, OR and Del Norte County, CA.

Summary: EPA expressed environmental concerns over the lack of mitigation measures to address impacts of roads and limit potential adverse impacts to mollusks, amphibians and fish. EPA believes that mitigation measures included in Alternative 3 are needed to reduce impacts of suction dredge mining to 303(d) listed waters and listed fish species. EPA recommends that the final EIS contain these measures, training for miners to identify and protect aquatic species and develop required planning documents under the Northwest Forest Plan, and a well defined enforcement strategy.

ERP No. D-FHW-L53003-WA Rating EC2, Vancouver Rail Project, Rail Improvements at the Burlington Northern and Santa Fe Rail Yard and Possible Elimination of the West 39th Street At-Grade Crossing, Funding and NPDES Permit Issuance, Clark County, WA.

Summary: EPA expressed environmental concerns that the draft EIS did not provide full disclosure of direct, indirect and cumulative environmental impacts, including impacts to wetland buffers, and does not provide sufficient discussion of alternatives.

ERP No. D-FTA-K54026-NV Rating EC2, Las Vegas Resort Corridor Project, Transportation Improvements, Funding, City of Las Vegas, Clark County, NV.

Summary: EPA expressed environmental concerns that the document does not provide sufficient information on environmental justice and cumulative impacts. EPA requested additional analysis and documentation on both of these issues.

ERP No. DS-FHW-F40368-WI Rating EO2, US-12 Highway Corridor Project, Improvement from IH90/94 at Lake Delton south to Ski Hi Road, Updated Information, Funding and US Army COE Section 404 Permit Issuance, Sauk County, WI.

Summary: EPA has concluded that potential adverse impacts to the Baraboo Hills resources will be significant and must be avoided to protect the environment. Specific objections are lack of consistency between the preferred alternative and the Highway 12 Memorandum of Agreement signed in 1999, indirect effects of the highway improvements, including secondary land use impacts, and the possibility of increased developmental pressure on the Baraboo Hills area's natural resources, and mitigation for anticipated impacts to interior forest habitat.

Final EISs

ERP No. F-BIA-L65330-WA White River Amphitheater Project, Construction and Operation of a 20,000 Seat Open-Air Amphitheater on the Muckleshoot Indian Reservation US Army COE Section 404 Permit and NPDES Permit Issuance, Seattle-Tocoma, King County, WA.

Summary: EPA requested that the concerns of local residents be addressed by implementing the mitigation measures. The records of Decision should commit to and implement actions that will mitigate traffic, noise, air and water quality.

ERP No. F-FHW-G40145-00 US 71 Highway Improvement Project, between Texarkana, (US71) Arkansas and DeQueen, Funding, Right-of-Way Grant and US Army COE Section 404 Permit Issuance, Little River, Miller and Sevier Counties, AR and Bowie County, TX.

Summary: EPA had no further comments to offer on the Final EIS. EPA had no objection to the preferred alternative.

ERP No. F-FHW-J40153-MT Montana State Primary Route 78 (P-78), Reconstruction, Widening and Realignment, from the junction with State Secondary Route 419 (S-419) which is just South of Abarokee, to the Southern end of the Yellowstone River Bridge which is just south of Columbus, MT.

Summary: EPA has environmental concerns regarding proposed stream channel modifications. EPA recommended consultation with the Montana Department of Environment Quality (MDEQ) to assure consistency of the proposed highway's construction activities with MDEQ's Total Maximum Daily Loading standards development for impaired water bodies in the project area.

ERP No. F-FHW-K40221-CA CA-84—Realignment Project, Transportation Improvement between CA-84 from I-880 to CA-2389/Mission Blvd, Funding and US Army COE Section 404 Permit Issuance, Cities of Fremont, Hayward and Union, Alameda County, CA.

Summary: EPA expressed continuing environmental concern that there is not enough information in the final EIS to assess the ways in which the project will impact waters of the United States and whether impacts have been avoided and minimized. EPA also commented that the conclusion that the project would not violate National Ambient Air Quality Standards for CO and PM10 at the project level was not supported.

ERP No. F-FTA-F40390-MN Northstar Transportation Corridor Improvement Project, Downtown Minneapolis to the St. Cloud Area along Trunk Highway 10/47 and the Burlington Northern Santa Fe Railroad Transcontinental Route connecting Hiawatha Light Rail Transit Line at a Multi-Modal Station, Minneapolis/St Paul International Airport and Mall of America, Bloomington, MN.

Summary: The final EIS includes additional information and discussions for the areas of concern identified in EPA's comment letters concerning the draft EIS and supplemental draft EIS. Direct wetland impacts have been reduced from 7.23 acres in the DEIS to 1.86 acres in the final EIS.

ERP No. F-NPS-D65023-DC Mary McLeod Bethune Council House National Historic Site General Management Plan, Implementation, Washington, DC.

Summary: No formal comment letter was sent to the preparing agency.

Dated: May 7, 2002.
Joseph C. Montgomery,
Director, NEPA Compliance Division, Office of Federal Activities.

[FR Doc. 02-11784 Filed 5-9-02; 8:45 am]

BILLING CODE 6560-50-P